DEPARTMENT OF THE INTERIOR

Fish and Wildlife Service

[FWS-R1-ES-2014-N238; FXES11120100000-156-FF01E00000]

Draft Programmatic Candidate Conservation Agreements With Assurances and Receipt of Applications for Enhancement of Survival Permits for the Greater Sage-Grouse in Oregon; and Draft Environmental Assessment

AGENCY: Fish and Wildlife Service, Interior.

ACTION: Notice of availability; request for comments.

SUMMARY: We, the U.S. Fish and Wildlife Service (Service), have received applications from five Soil and Water Conservation Districts (SWCDs) for enhancement of survival (EOS) permits under the Endangered Species Act of 1973, as amended (ESA). The permit applications include proposed programmatic candidate conservation agreements with assurances (CCAAs) for the greater sage-grouse, addressing conservation activities and ranching operations in Baker, Crook, Deschutes, Grant, Lake, Malheur, and southern Union Counties, Oregon. The Service also announces the availability of a draft environmental assessment (EA) addressing the proposed CCAAs and issuance of EOS permits in accordance with the National Environmental Policy Act of 1969, as amended (NEPA). We invite comments from all interested parties on the applications, including the CCAAs and the EA.

DATES: To ensure consideration, written comments must be received from interested parties no later than January 2, 2015.

ADDRESSES: To request further information or submit written comments, please use one of the following methods, and note that your information request or comments are in reference to the Multi-County CCAA.

• Internet: Documents may be viewed on the Internet at http://www.fws.gov/oregonfwo/.

• Email: Jeff_Everett@fws.gov. Include “Multi-County CCAA” in the subject line of the message or comments.

• U.S. Mail: U.S. Fish and Wildlife Service, Oregon Fish and Wildlife Office, 2600 SE. 98th Ave., Suite 100, Portland, OR 97266.

• Fax: 503-231-6195, Attn: Multi-County CCAA.

• In-Person Viewing or Pickup: Documents will be available for public inspection by appointment during normal business hours at the U.S. Fish and Wildlife Service, Oregon Fish and Wildlife Office, 2600 SE. 98th Ave., Suite 100, Portland, OR.

FOR FURTHER INFORMATION CONTACT: Jeff Everett or Jennifer Siani, U.S. Fish and Wildlife Service, Oregon Fish and Wildlife Office (see ADDRESSES), telephone: 503-231-6179. If you use a telecommunications device for the deaf, please call the Federal Information Relay Service at 800-877-8339.

SUPPLEMENTARY INFORMATION: We have received five applications—from Baker Valley SWCD, Crook County SWCD, Grant SWCD, Lakeview SWCD, and Malheur County SWCD—for EOS permits under section 10(a)(1)(A) of the ESA for incidental take of sage-grouse (Centrocercus urophasianus). Each application includes a CCAA covering sage-grouse habitat on private lands in one or two counties in Oregon. The Service and the SWCDs prepared the CCAAs to provide landowners with the opportunity to voluntarily conserve the greater sage-grouse and its habitat while carrying out ranch operations.

Background Information

Private and other non-Federal property owners are encouraged to enter into CCAAs, in which they voluntarily undertake management activities on their properties to enhance, restore, or maintain habitat benefiting species that are proposed for listing under the ESA, candidates for listing, or species that may become candidates or proposed for listing. EOS permits are issued to applicants in association with approved CCAAs to authorize incidental take of the covered species from covered activities, should they become listed. Through a CCAA and its associated EOS permit, the Service provides assurances to property owners that they will not be subjected to increased land use restrictions if the covered species become listed under the ESA in the future, provided certain conditions are met.

Application requirements and issuance criteria for EOS permits for CCAAs are found in the Code of Regulations (CFR) at 50 CFR 17.22(d) and 17.32(d), respectively. See also our joint policy on CCAAs, which we published in the Federal Register with the Department of Commerce's National Oceanic and Atmospheric Administration, National Marine Fisheries Service (64 FR 32726; June 17, 1999).

On March 23, 2010, the Service determined that listing the greater sage-grouse under the ESA (16 U.S.C. 1538) was warranted, but precluded by the need to address higher priority species first. A proposed listing determination is scheduled for September 2015. In anticipation of the potential listing of sage-grouse under the ESA, the SWCDs requested assistance from the Service in developing sage-grouse CCAAs for ranch management activities on behalf of private landowners in Baker, Crook, Deschutes, Grant, Lake, Malheur, and southern Union Counties, Oregon.

Proposed Action

The Service proposes to approve five programmatic CCAAs and to issue EOS permits, each with a term of 30 years, to the applicants for incidental take of greater sage-grouse caused by covered activities, if permit issuance criteria are met. Covered activities include rangeland treatments, livestock management, recreation, farm operations, and developments associated with ranching operations. The area covered under these proposed programmatic CCAAs is approximately 2,312,673 acres of core area (or preliminary priority habitat) and low-density (or preliminary general habitat) sage-grouse habitat located in Baker, Crook, Deschutes, Grant, Lake, Malheur, and southern Union Counties, Oregon. Sage-grouse currently use habitats on the covered lands for lekking (breeding displays), late brood-rearing, and wintering.

The draft programmatic CCAAs describe all of the threats to sage-grouse that have been identified on the covered lands, including: Loss and fragmentation of sagebrush habitat; large wildfires, as well as lack of fire in some areas; encroachment of junipers and other conifers; improper grazing; invasive plants; vegetation treatments that reduce or degrade sagebrush habitat; degradation of riparian areas; drought, as well as catastrophic flooding; disturbance from recreation and other activities; predation; West Nile virus; wild horse and burros; and insecticide use. The CCAAs also describe conservation measures landowners would implement to address each threat. Implementation of the programmatic CCAAs would benefit sage-grouse by reducing or eliminating threats to the species on the covered lands and by creating or maintaining habitat conditions that are suitable for all life-history stages of the species through the implementation of conservation measures.

A private landowner who wishes to enroll under the programmatic CCAA would develop, in coordination with the SWCD, a site-specific plan (SSP) for the property to be enrolled. The SWCD would assist the landowner in identifying threats on the property and in selecting conservation measures to address those threats. Once the SSP is completed, the SWCD will submit it to the Service for approval. If the Service determines that an SSP is consistent with the terms and conditions established in the CCAA and EOS permit, the Service will issue a letter of concurrence to the SWCD approving the SSP. Upon Service approval of the SSP, the landowner and the SWCD will sign a Certificate of Inclusion in order for the landowner to receive coverage under the EOS permit issued to the SWCD for take of sage-grouse incidental to conservation and ranching activities, should the species become listed. Take authorization would become effective upon listing, as long as the enrolled landowner is in compliance with the terms and conditions of their SSP and the EOS permit.

National Environmental Policy Act Compliance

Approval of programmatic CCAAs and issuance of EOS permits are Federal actions that trigger the need for compliance with NEPA. Pursuant to NEPA, we have prepared one draft EA to analyze the environmental impacts related to the issuance of all five EOS permits and implementation of their associated programmatic CCAAs.

The EA analyses three alternatives: A “no action” alternative, a landowner-specific alternative, and the proposed action. Under the no action alternative, the FWS would not enter into any additional CCAAs nor issue additional EOS permits for incidental take of sage-grouse associated with private ranching operations in Oregon; however, existing CCAAs and other conservation efforts would continue. The landowner-specific alternative would involve the development of CCAAs and issuance of EOS permits on an individual landowner-by-landowner basis. The proposed action alternative is a programmatic approach, in which the FWS would issue EOS permits to SWCDs and enter into multi-county CCAAs that will streamline landowner enrollment through certificates of inclusion. The proposed action is further described under “Proposed Action.”

Public Comments

You may submit your comments and materials by one of the methods listed in the ADDRESSES section. We specifically request information, views, opinions, or suggestions from the public on our proposed Federal permit actions. We particularly seek comments on the following: (1) Biological information and data concerning greater sage-grouse; (2) current or planned activities in the covered area and their possible impacts on sage-grouse; (3) identification of any other environmental effects that should be considered with regard to the proposed permit actions; and (4) information regarding the adequacy of the CCAAs pursuant to the requirements for permits at 50 CFR parts 13 and 17.

Public Availability of Comments

All comments and materials we receive become part of the public record associated with this action. Before including your address, phone number, email address, or other personal identifying information in your comments, you should be aware that your entire comment—including your personal identifying information—may be made publicly available at any time. While you can ask us in your comment to withhold your personal identifying information from public review, we cannot guarantee that we will be able to do so. Comments and materials we receive, as well as supporting documentation we use in preparing the EA, will be available for public inspection by appointment, during normal business hours, at our Oregon Fish and Wildlife Office (see ADDRESSES).

Next Steps

After completion of the EA based on consideration of public comments, we will determine whether adoption of the programmatic CCAAs warrants a finding of no significant impact or whether an environmental impact statement should be prepared pursuant to NEPA. We will evaluate the programmatic CCAAs, as well as any comments we receive, to determine whether implementation of the CCAAs would meet the criteria for issuance of EOS permits under section 10(a)(1)(A) of the ESA. We will also evaluate whether the proposed permit action would comply with section 7 of the ESA by conducting an intra-Service section 7 consultation. We will consider the results of this consultation, in combination with the above findings, in our final analysis to determine whether or not to issue EOS permits to the SWCDs. We will not make the final NEPA and permit decisions until after the end of the 30-day public comment period on this notice, and we will fully consider all comments we receive during the public comment period.

If we determine that the permit issuance requirements are met, the Service will issue EOS permits to the five SWCDs. The SWCDs would then begin processing applications from landowners interested in developing SSPs consistent with the CCAAs in order to receive coverage for the incidental take of greater sage-grouse under the SWCDs' EOS permits.

Authority

We provide this notice in accordance with the requirements of section 10 of the ESA (16 U.S.C. 1531 et seq.), and NEPA (42 U.S.C. 4321 et seq.) and their implementing regulations (50 CFR 17.22 and 40 CFR 1506.6, respectively).

Dated: November 17, 2014 .
Richard Hannan,
Deputy Regional Director, Pacific Region, U.S. Fish and Wildlife Service, Portland, Oregon.

[FR Doc. 2014-28361 Filed 12-1-14; 8:45 am]

BILLING CODE 4310-55-P